DEPARTMENT OF THE INTERIOR

Bureau of Land Management

[NV-020-1990-EX]

Draft Environmental Impact Statement; Glamis Marigold Mining Company/Marigold Mine Millennium Expansion Project, Humboldt Co., NV

AGENCY: Bureau of Land Management, Interior.

ACTION: Notice of availability.

SUMMARY: Pursuant to section 102(2)(c) of the National Environmental Policy Act of 1969, notice is given that the Winnemucca Field Office of the Bureau of Land Management (BLM) has prepared, by third party contractor, a Draft Supplemental Environmental Impact Statement on the Glamis Marigold Mining Company/Marigold Mine Millennium Expansion Project, located in Humboldt County, Nevada.

EFFECTIVE DATES: The Draft Supplemental Environmental Impact Statement will be distributed and made available to the public on April 4, 2003. The period of availability for public review for the Final Environmental Impact Statement ends June 5, 2003. At that time public comments will be reviewed and a response prepared.

ADDRESSES: A copy of the Draft Supplemental Environmental Impact Statement can be obtained from: Bureau of Land Management, Winnemucca Field Office, 5100 East Winnemucca Blvd., Winnemucca, Nevada 89445.

FOR FURTHER INFORMATION CONTACT: Jeffrey D. Johnson, Project Manager, at the above Winnemucca Field Office address or telephone (775) 623-1500.

SUPPLEMENTARY INFORMATION: The Draft Supplemental Environmental Impact Statement analyzes the direct, indirect and cumulative impacts related to expansion of existing mine facilities (pits, overburden dumps & heap leach pads) and development of the Millennium Projects. Development includes construction of five new pits, overburden disposal areas, two additional heap leach facilities, drainage diversions, haul and exploration roads and ancillary facilities. Alternatives analyzed include (1) Moving the Trout Creek Diversion toward the west, farther from the Red Rock Pit, (2) increase backfilling along the west high wall of the Red Rock Pit, and (3) the No Action.

Dated: March 27, 2003.
Jeffrey D. Johnson,
Field Manager.

[FR Doc. 03-7882 Filed 4-3-03; 8:45 am]

BILLING CODE 4310-HC-P